DEPARTMENT OF LABOR

Office of the Secretary

Combating Child Labor Through Education in Bolivia and Peru

AGENCY: Bureau of International Labor Affairs, Department of Labor.

ACTION: Notice of availability of funds and solicitation for Cooperative Agreement Applications (SGA 02-04).

SUMMARY: The U. S. Department of Labor (USDOL), Bureau of International Labor Affairs (ILAB), will award up to US $3 million through a cooperative agreement(s) to an organization or organizations to develop and implement educational and vocational programs as a means to combat the worst forms of child labor as defined in International Labor Organization (ILO) Convention No. 182. The programs, to take place in the Department of Potosí in Bolivia and the Department of Puno in Perú, should complement as appropriate USDOL-funded child labor programs being implemented by the ILO's International Program on the Elimination of Child Labor (IPEC) in artisan mining communities. ILAB is seeking applications from qualified organizations for implementation of an educational initiative to improve access to basic quality education for children working or at risk of working. The programs should include components of awareness raising, teacher training, development and distribution of locally relevant educational materials, vocational training, institutional strengthening, and mobilization of resources for education. Applicants may submit applications for implementation in one or both countries.

DATES: The closing date for receipt of applications is July 9, 2002. Applications must be received by 4:45 p.m. (Eastern Time) at the address below. No exceptions to the mailing and hand-delivery conditions set forth in this notice will be granted.

ADDRESSES: Application forms will not be mailed. They are published in this Federal Register Notice, and in the Federal Register that may be obtained from your nearest U.S. Government office or public library or online at http://www.nara.gov/fedreg/nfpubs.html.

Applications must be delivered to: U.S. Department of Labor, Procurement Services Center, 200 Constitution Avenue, NW, Room N-5416, Attention: Lisa Harvey, Reference: SGA 02-04, Washington, DC 20210.

Applications sent by e-mail, telegram, or facsimile (FAX) will not be accepted. Applications sent by other delivery services, such as Federal Express, UPS, etc., will be accepted, however, the applicant bears the responsibility for timely submission.

FOR FURTHER INFORMATION CONTACT: Lisa Harvey. E-mail address: All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this is not a toll-free number), prior to the closing deadline. All inquiries should reference SGA 02-04. See Section III.C for additional information.

SUPPLEMENTARY INFORMATION: The Bureau of International Labor Affairs, USDOL, announces the availability of funds to be granted by cooperative agreement to one or more qualifying organizations for the purpose of preventing and combating the worst forms of child labor through primary, secondary, and/or vocational education in Bolivia and Perú. The cooperative agreement(s) will be managed by ILAB's International Child Labor Program (ICLP) through its Child Labor Education Initiative (EI), to assure achievement of the stated goals. Applicants are encouraged to be creative in proposing cost-effective interventions that will have a demonstrable impact in improving education for children working or at risk of working in the target areas.

I. Background and Program Scope

A. USDOL Global Support to Eliminate Child Labor and Expand Access to Education

Since 1995 as mandated by the U.S. Congress, USDOL has supported a worldwide technical assistance program implemented by the International Labor Organization's International Program on the Elimination of Child Labor (ILO/IPEC). Recently, funding has gone to assist countries in the implementation of ILO Convention 182 on the Worst Forms of Child Labor. USDOL/ILAB contributions to date to ILO/IPEC have amounted to some US $112 million, making the United States the program's largest donor and a leader in global efforts to combat child labor. In USDOL's FY 2001 and FY 2002 appropriations, in addition to US $90 million in funds earmarked for ILO/IPEC, ILAB received US $74 million for EI that will fund programs to increase access to quality, basic education in areas with a high incidence of child labor. The cooperative agreement(s) awarded under this solicitation will be funded by this new initiative.

ILAB's EI nurtures the development, health, safety and enhanced future employability of children around the world by increasing access to basic education for children removed from child labor or at risk of entering it. Child labor elimination will depend in part on improving access to, quality of, and relevance of education. Without improving educational quality and relevance, children withdrawn from child labor may not have viable alternatives and could resort to other forms of hazardous work.

The Child Labor Education Initiative has the following four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

B. USDOL/ILAB Efforts to Combat Child Labor in Bolivia and Peru

In 2000, USDOL/ILAB, through ILO/IPEC, funded the Program to Prevent and Progressively Eliminate Child Labor in Small-scale Traditional Gold Mining in South America (hereafter referred to as “ILAB/IPEC South America Small-scale Mining Project”—see Appendix E) that includes Perú and Bolivia as implementing countries. The project targets mining, a worst form of child labor as defined by ILO Convention No.182, because it harms the health and safety of children under 18. In determining the types of work likely to harm the health and safety of children, ILO Convention No. 182 considers work that exposes a child to physical abuse; work underground, underwater, at dangerous heights or in confined workplaces; work with dangerous machinery, equipment and tools or handling or transporting heavy loads; work in an unhealthy environment including exposure to hazardous substances, agents or processes, or to temperatures, noise levels or vibrations damaging to the health; and work for long hours or night work where the child is unreasonably confined to the premises.

A second phase of the ILAB/IPEC South America Small-scale Mining project is planned, but not yet confirmed. At this time, the applicant is not required to account for this project in the application, however, USDOL/ILAB reserves the right to modify any project which may duplicate the second phase of this ILAB/IPEC project.

The education activities that would be undertaken by the applicant awarded the cooperative agreement (hereafter referred to as “Grantee”) need to address the major obstacles and gaps that currently serve as barriers to the education of children living in the areas of the ILAB/IPEC South America Small-scale Mining Project. In addressing the obstacles and barriers to quality basic education, the Grantee will work within the parameters of the broader implementing environment including the national educational reforms operating in each country (described in more detail in Appendices C and D). In preparing responses to this solicitation, applicants should show a thorough understanding of the realities and constraints operating in the mining communities that are being targeted.

In Bolivia, the education program funded under this cooperative agreement should build on activities begun by the USDOL-funded ILAB/IPEC project in the Department of Potosí, in the communities of Llallagua and Potosí. This area has been chosen because it has the largest known concentration of children working in mine-related activities. The 1992 National Census projected that in 1998 there would be approximately 124,000 inhabitants in the city of Potosí, more than 35,000 (29 percent) of which belong to the local mining community (Study on Cerro Rico, Potosí, 2001). Of these 35,000, more than 6,000 are children involved in mine-related labor, but exact data on their school attendance or educational needs are not fully known. The same study shows that Potosí has a 51 percent level of poverty, which is above the national average. In the mining areas, the poverty level is significantly higher.

In Perú, the focus should be in the Department of Puno, Province of San Antonio de Putina, in the district of Ananea and the surrounding mining communities of Ananea/La Rinconada/Cerro Lunar, and selected areas in the districts of Putina and/or Sandia. The project should build on activities begun by the USDOL-funded ILAB/IPEC project in La Rinconada. Some of the communities are located at an altitude of 5,400 meters (17,550 feet), and the Grantee will be confronted with limited services and a challenging work environment. This area has been chosen because it has one of the largest populations of child miners in the country. It is estimated that there are 26,264 children working in gold mining in the Ananea area of Puno where several mining communities are located (Piazza, Children Working in Small-scale Traditional Gold Mining in Perú, 2001). It is also estimated that of approximately 5,000 children living in La Rinconada, only about 1,000 attend school.

C. Barriers to Quality Education for Child Laborers

Experts agree that improvements in the quality of education are an essential component in the variety of interventions that can be successful in eliminating child labor. Whereas the USDOL-funded ILAB/IPEC project aims to address many of the causes of child labor, the activities funded under this solicitation should complement and supplement them by addressing the numerous barriers to education confronted by the children. Although ongoing efforts exist in Bolivia and Perú to withdraw current and prevent future generations of children and adolescents from leaving school and entering the work force (see Appendices C and D), many of these efforts are isolated, or fail to directly address the needs of the children targeted by this project. Most of these barriers are common to both countries, and they have been categorized relative to the broad goals of the Child Labor Education Initiative.

1. Insufficient awareness on the importance of education for all children and inadequate mobilization of a wide array of actors to improve and expand education infrastructures

There are a number of barriers and challenges in efforts to raise awareness which include:

• Parents/families in the Andean highlands, often as a byproduct of cultural beliefs and societal norms, view work as a better option than school. This view can become more ingrained when the quality of education is poor, classes are irrelevant and few alternative recreational opportunities exist for children.

• Teachers, health providers and authorities often do not understand the social, educational, nutritional, emotional, and/or health needs of child laborers. If these needs were satisfied, children would have more of a chance to attend school.

• Child labor laws are not known and therefore not enforced. In addition, some children believe in the need and the right to work as minors, and have organized to demand better working conditions.

2. Low quality formal and transitional education systems that discourage working children and those at risk of working from attending school

The low quality of education found in project target areas is a result of many factors. These include:

• Poorly trained, poorly paid and poorly motivated teachers with little understanding of the realities of working children.

• Curricula that are irrelevant to children living in these regions.

• Lack of learning and teaching materials.

• Limited budget earmarks for education.

• Poor educational infrastructure in remote rural areas such as those of this project.

• Lack of understanding by teachers of the goals and strategies of education reform, and/or lack of willingness of teachers to accept it.

• Few opportunities for vocational education and training, particularly for adolescents and families of adolescents working in the worst forms of child labor. In addition, existing vocational training programs are not always based on an analysis of future employment opportunities.

3. Inadequate National Institutions and Policies on Education and Child Labor

There are a number of gaps that contribute to the weaknesses of institutions. These in turn affect the quality of implementation of policies and/or programs on education and child labor. Institutional and policy constraints include:

• Lack of national, departmental and local level data/information on the extent/nature of child/adolescent labor. The collection of reliable data is hampered by differing definitions of what constitutes work, limited candor in discussing a sensitive topic, and limited funds and/or political will for in-depth studies.

• Lack of baseline information on education achievement and needs of child/adolescent labor population in target areas. For example, the link between child labor, formal school dropout, and access to and attendance in non-formal school is still not well understood. Studies to date on working and night school students present contradictory evidence. A study conducted by UNICEF in 2001, La Escuela Nocturna: Educación Nocturna para Niños y Adolescentes en El Alto (Night School: Night Education for Children and Adolescents in El Alto), found, contrary to expectation that only about 56% of students were working, while Gottret, et al., in La Escuela: Educación para niños y adolescentes trabajadores en Bolivia (A study on education for children and adolescent workers in Bolivia), reported that 80% of night school students were working.

• Lack of methods to gauge the educational achievement of working children.

• Lack of information on community demographics, which limits local officials in their ability to program and distribute scarce budget resources for many social services including education. Additions to existing infrastructure or teacher appointments are often denied by regional authorities that maintain that the need is non-existent or smaller than that estimated by local residents.

• Missing linkages between health and education services. Children who go to school hungry have trouble concentrating on their lessons, and children who work in mine-related labor face specific threats and side-effects to their health that are not being addressed (including exposure to mercury, dust, and damp and cold working spaces) and the possible effect of these exposures to their cognitive development and educational performance.

• Community institutions have inherent weaknesses that hamper their effectiveness or potential impact. For example, school committees have proven to be good at making improvements to education infrastructure but have not developed any expertise in the area of oversight and monitoring of quality education.

• Inexperienced municipal organizations are becoming increasingly responsible for making education-related decisions as education decentralization strategies take hold. With little prior experience or training, decisions are often not cost-effective or do not follow good educational principles.

4. Challenges to Achieving Long-Term Sustainability of Efforts

Sustainability is ultimately linked to project impact and the ability of individuals, communities and a nation to ensure that the activities or changes implemented by a project endure. A project's impact is manifested at the level of individuals, organizations, and systems. For individual children and their families this would mean a positive and enduring change in their life conditions as a result of project interventions. At the level of organizations and systems, sustained impact would involve continued commitment and ability (including financial commitment and policy change) to continue the actions generated by the project as long as they are still needed, including enforcement of existing policies that target child labor and school attendance. In both Bolivia and Peru, there are a number of factors that affect the ability of a project to achieve sustainable impact at these multiple levels:

• Poverty of families and lack of other income alternatives to child labor.

• Insufficient organizational commitment due to lack of skills, resources or ability to raise resources.

• Lack of enforcement of child labor and education laws, and related policy reforms.

• Low levels of exchange and use of “lessons learned” from current and previously implemented projects.

II. Authority

ILAB is authorized to award and administer this program by the Consolidated Appropriations Act, 2001, Public Law 106-554, 114 Stat. 2763A-10 (2000).

III. Application Process

A. Eligible Applicants

Any commercial, international or non-profit organization capable of successfully developing and implementing education programs for child laborers or children at risk is eligible to apply for this cooperative agreement(s). Partnerships of more than one organization are also eligible, and applicants are strongly encouraged to work with organizations already undertaking projects in Bolivia and Perú, including local NGOs and faith-based organizations (see Appendices C and D). The capability of an applicant or applicants to perform necessary aspects of this solicitation will be determined under Section V.B Rating Criteria.

Please note that eligible cooperative agreement applicants must not be classified under the Internal Revenue Code as a 501(c)(4) Entity. See 26 U.S.C. 501(c)(4). According to section 18 of the Lobbying Disclosure Act of 1995, an organization, as described in section 501(c)(4) of the Internal Revenue Code of 1986, that engages in lobbying activities, will not be eligible for the receipt of federal funds constituting an award, grant, or loan.

B. Submission of Applications

One (1) ink-signed original, complete application in English per country plus two (2) copies of the application(s), must be submitted to the U.S. Department of Labor, Procurement Services Center, 200 Constitution Avenue, NW, Room N-5416, Washington, DC 20210, not later than 4:45 p.m. ET, July 9, 2002. Accompanying documents must also be in English. To aid with review of applications, USDOL also encourages applicants to submit two (2) additional paper copies of the application (five total). Applicants who do not provide additional copies will not be penalized.

An application for each country must consist of two (2) separate parts. Part I of an application must contain the Standard Form (SF) 424, “Application for Federal Assistance” (Appendix A) (The entry on SF 424 for the Catalog of Federal Domestic Assistance Number [CFDA] is 17.700) and sections A-F of the Budget Information Form SF 424A (Appendix B). Part II must contain a technical application that demonstrates capabilities in accordance with the Statement of Work and the selection criteria.

To be considered responsive to this solicitation, the application must consist of the above-mentioned separate sections not to exceed 25 single-sided (8½ inches x 11 inches), double-spaced, 10 to 12 pitch typed pages per country, for which a response is submitted. ANY APPLICATIONS THAT DO NOT CONFORM TO THESE STANDARDS MAY BE DEEMED NON-RESPONSIVE TO THIS SOLICITATION AND MAY NOT BE EVALUATED. Standard forms and attachments are not included in the page limit. Each application must include a table of contents and an abstract summarizing the application in not more than two (2) pages. These pages are also not included in the page limits. Additional supporting materials should also be in English.

Upon completion of negotiations, the individual signing the SF 424 on behalf of the applicant must be authorized to bind the applicant.

C. Acceptable Methods of Submission

The grant application package must be received at the designated place by the date and time specified or it will not be considered. Any application received at the Office of Procurement Services after 4:45 pm EST, July 9, 2002, will not be considered unless it is received before the award is made and:

1. It was sent by registered or certified mail not later than the fifth calendar day before July 9, 2002;

2. It is determined by the Government that the late receipt was due solely to mishandling by the Government after receipt at the U.S. Department of Labor at the address indicated; or

3. It was sent by U.S. Postal Service Express Mail Next Day Service-Post Office to Addressee, not later than 5 p.m. at the place of mailing two (2) working days, excluding weekends and Federal holidays, prior to July 9, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570 (this is not a toll-free number), prior to the closing deadline. All inquires should reference SGA 02-04.

D. Funding Levels

Up to US $3 million is available for implementation in the two countries, approximately US $1.5 million for Perú, and US $1.5 million for Bolivia. USDOL/ILAB will award up to two cooperative agreements, one for each country, but if one organization submits the best applications for both countries, then only one cooperative agreement will be awarded. An organization may apply for one or both projects. Partnerships of more than one organization may also apply to implement one or both programs.

E. Length of Cooperative Agreement Period

The duration of the program(s) funded by this SGA is four (4) years. The start date of program activities will be negotiated upon awarding of grant.

IV. Requirements

The applicant will propose innovative and cost-effective approaches that will meet the education needs of children living in the communities targeted by the project in each country. In proposing approaches, applicants should support the goals of USDOL/ILAB's EI: (1) Raise awareness of the importance of education for all children and mobilize a wide array of actors to improve and expand education infrastructures; (2) Strengthen formal and transitional education systems that encourage working children and those at risk of working to attend school; (3) Strengthen national institutions and policies on education and child labor; and (4) Ensure the long-term sustainability of these efforts.

Project key personnel should work closely with the ILO/IPEC's project manager of the USDOL-funded ILAB/IPEC project. The requirements listed below are the basis from which the Grantee(s) will develop a project document after award. In developing responses, applicants should take into account information available in Appendices C and D, and project documents and supporting documentation available on-line (and listed in Appendix E). Below is a listing of country-specific requirements to guide applicants in the development of responses to this solicitation.

A. Statement of Work

For each country which the applicant is submitting an application, the application should suggest approaches to address the barriers to quality education for child laborers identified in Section I.C above, while taking into account the implementing environment and resources available from programs or activities already existing in the country. Activities in general should not duplicate existing efforts in target communities but rather, should complement them. Also, the education activities proposed in this solicitation should coordinate closely with and complement, but not duplicate, activities of the ILAB/IPEC South America Small-scale Mining Project in Bolivia and Perú.

Bolivia

The EI project should build on initial work done by ILO/IPEC in Potosí and Llallagua. The applicant should propose creative and innovative approaches to improve access, quality, and relevance of education for working children, especially child/adolescent miners and children at risk of working in mining-related activities in the Department of Potosí.

The proposed project should aim to improve education access and quality. Project interventions should try to increase enrollment and attendance in target schools, reduce dropout rates, and increase promotion to the next grade. The project could include a number of interventions such as awareness raising, school management/teacher training, school committee strengthening, and educational materials to target schools in rural areas (see Appendix C for implementing environment in Bolivia).

Because of the limited resources available to this project, the applicant might consider improving the quality of night schools in the Department of Potosí, where most working children/adolescents who study receive their education. At the same time, the applicant is encouraged to suggest other ways to improve educational quality for this target population.

In developing proposed project interventions, where relevant, applicants may consider suggesting innovative approaches to work with local communities, faith-based organizations, and governmental organizations at the local and national level.

Perú

The applicant should propose creative and innovative approaches to improve access, quality, and relevance of primary and secondary education for working children, especially child/adolescent miners and children at risk of working in mining in the Department of Puno in the area surrounding the mining communities of Ananea/La Rinconada/Cerro Lunar and including selected schools in the districts of Putina and/or Sandia. Project interventions should increase enrollment and attendance in target schools, reduce dropout, and increase promotion.

The applicant should suggest a strategy and logistics for improving the quality of education in the target mining communities and other nearby rural communities in the Department of Puno. The application should elaborate on how schools will be selected, how collaboration with local educational authorities will be undertaken, and the number of teachers to be included in the intervention. Target schools should be strategically selected to balance the project's goal of making sustainable improvements in the quality of education for working children. By the end of the project, improvements in the achievement levels of students in target schools should be evident in scores on standardized (preferably Ministry of Education) achievement tests.

In developing interventions, where relevant, applicants may consider suggesting innovative approaches to work with local communities, faith-based organizations, and governmental organizations at the local and national level.

B. Deliverables

Unless otherwise indicated, the Grantee(s) must submit copies of all required reports to ILAB by the specified due dates.

1. Project Designs. A project document in a format to be established by ILAB in the logical framework format will be used, and will include a background/justification section, project strategy (objectives, outputs, activities, indicators, means of verification), project implementation timetable and project budget. The project design will be drawn from the application written in response to this solicitation. The document will also include sections that address coordination strategies, project management and sustainability. The time for delivery of this document will be negotiated at the time of the award.

2. Technical and Financial Progress Reports. The Grantee(s) must furnish a typed technical report to ICLP on a quarterly basis by 31 March, 30 June, 30 September, and 31 December. The Grantee must also furnish a separate financial report (SF 272) to ICLP on the quarterly basis mentioned above. The format for the technical progress report will be the format developed by ICLP and must contain the following information:

a. For each project objective, an accurate account of activities carried out under that objective during the reporting period;

b. An accounting of staff and any subcontractor hours expended;

c. An accounting of travel performed under the cooperative agreement during the reporting period, including purpose of trip, persons or organizations contacted, and benefits derived;

d. A description of current problems that may impede performance, and proposed corrective action;

e. Future actions planned in support of each project objective;

f. Aggregate amount of costs incurred during the reporting period, and

g. Progress on indicators (to be reported annually).

3. Annual Work Plan. An annual work plan will be developed within 2 months of project award and approved by ILAB so as to ensure coordination with other relevant government and social actors in the two countries. Subsequent annual work plans will be delivered no later than one year after the previous one.

4. Monitoring and Evaluation Plan. A monitoring and evaluation plan will be developed, in collaboration with ILAB, including beginning and ending dates for the project, planned and actual dates for mid-term review, and final end of project evaluations. The monitoring plan will be prepared after completion of baseline surveys, including revision of indicators provided in project document, targets, and means of verification. Progress on indicators will be reported semi-annually.

5. Evaluation Reports. The Grantee(s) and the Grant Officer's Technical Representative (GOTR) will determine on a case-by-case basis whether mid-term evaluations will be conducted by an internal or external evaluation team. All final evaluations will be external in nature. The Grantee(s) must respond to any comments and recommendations resulting from the review of the mid-term report.

C. Production of Deliverables

1. Materials Prepared Under the Cooperative Agreement. The Grantee(s) must submit to ILAB all media-related and educational materials developed by it or its sub-contractors before they are reproduced, published, or used. ILAB considers that education materials include brochures, pamphlets, videotapes, slide-tape shows, curricula, and any other training materials used in the program. ILAB will review materials for technical accuracy. The Grantee(s) must obtain prior approval from the Grant Officer for all materials developed or purchased under this cooperative agreement. All materials produced by Grantee(s) must be provided to ILAB in a digital format for possible publication by ILAB.

2. Acknowledgment of USDOL Funding. In all circumstances the following must be displayed on printed materials:

“Preparation of this item was funded by the United States Department of Labor under Cooperative Agreement No. E-9-X-X-XXXX.”

When issuing statements, press releases, requests for applications, bid solicitations, and other documents describing projects or programs funded in whole or in part with Federal money, all Grantees receiving Federal funds, including State and local governments and recipients of Federal research grants, must clearly state:

a. The percentage of the total costs of the program or project, which will be financed with Federal money;

b. The dollar amount of Federal funds for the project or program; and

c. The percentage and dollar amount of the total costs of the project or program that will be financed by non-governmental sources.

In consultation with ILAB, USDOL's role will be identified as one of the following:

a. The USDOL logo may be applied to USDOL-funded material prepared for world-wide distribution, including posters, videos, pamphlets, research documents, national survey results, impact evaluations, best practice reports, and other publications of global interest. The Grantee(s) will consult with USDOL on whether the logo should be used on any such items prior to final draft or final preparation for distribution. In no event will the USDOL logo be placed on any item until USDOL has given the Grantee(s) written permission to use the logo, after obtaining appropriate internal USDOL approval for use of the logo on the item.

b. If ILAB determines the logo is not appropriate and does not give written permission, the following notice must appear on the document:

“This document does not necessarily reflect the views or policies of the U.S. Department of Labor, nor does mention of trade names, commercial products, or organizations imply endorsement by the U.S. Government.”

D. Administrative Requirements

1. General. Grantee organizations are subject to applicable Federal laws (including provisions of appropriations law) and the applicable Office of Management and Budget (OMB) Circulars. Determinations of allowable costs will be made in accordance with the applicable Federal cost principles. The cooperative agreement(s) awarded under this SGA are subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government wide Debarment and Suspension (Nonprocurement) and Government wide Requirements for Drug-Free Workplace (Grants).

29 CFR Part 99—Federal Standards for Audits of States, Local Governments, and Non-Profit Organizations.

2. Sub-contracts. Sub-contracts must be awarded in accordance with 29 CFR 95.40-48. In compliance with Executive Orders 12876 as amended, 13230, 12928 and 13021 as amended, the Grantee(s) is strongly encouraged to provide sub-contracting opportunities to Historically Black Colleges and Universities, Hispanic-Serving Institutions and Tribal Colleges and Universities.

3. Key Personnel. The applicant shall list individual(s) who has (have) been designated as having primary responsibility for the conduct and completion of all work in project(s) it proposes (see Section V.B.3). The applicant will submit written proof that key personnel will be available to begin work on the project no later than three weeks after award. The Grantee(s) agrees to inform the (GOTR) whenever it appears impossible for these individual(s) to continue work on the project as planned. The Grantee(s) may nominate substitute personnel and submit the nominations to the GOTR; however, the Grantee(s) must obtain prior approval from the Grant Officer for all key personnel. If the Grant Officer is unable to approve the personnel change, he/she reserves the right to terminate the cooperative agreement.

4. Encumbrance of Cooperative Agreement Funds. Cooperative agreement funds may not be encumbered/obligated by the Grantee(s) before or after the cooperative agreement period of performance. Encumbrances/obligations outstanding as of the end of the cooperative agreement period may be liquidated (paid out) after the end of the cooperative agreement period. Such encumbrances/obligations shall involve only specified commitments for which a need existed during the grant period and which are supported by approved contracts, purchase orders, requisitions, invoices, bills, or other evidence of liability consistent with the Grantee(s) purchasing procedures and incurred within the cooperative agreement period. All encumbrances/obligations incurred during the cooperative agreement period shall be liquidated within 90 days after the end of the cooperative agreement period, if practicable.

5. Site Visits. USDOL, through its authorized representatives, has the right, at all reasonable times, to make site visits to review project accomplishments and management control systems and to provide such technical assistance as may be required. If USDOL makes any site visit on the premises of the Grantee(s) or a sub-contractor(s) under this cooperative agreement(s), the Grantee(s) shall provide and shall require its sub-contractors to provide all reasonable facilities and assistance for the safety and convenience of the Government representatives in the performance of their duties. All site visits and evaluations shall be performed in a manner that will not unduly delay the work.

V. Review and Selection of Applications for Grant Award

A. The Review Process

USDOL will screen all applications to determine whether all required elements are present and clearly identifiable. A technical panel will objectively rate each complete application against the criteria described in this announcement. Applicants are advised that the panel recommendations to the Grant Officer are advisory in nature. The Grant Officer may elect to select a Grantee(s) on the basis of the initial application submission; or, the Grant Officer may establish a competitive or technically acceptable range for the purpose of selecting qualified applicants. If deemed appropriate, following the Grant Officer's call for the preparation and receipt of final revisions of applications, the evaluation process described above will be repeated to consider such revisions. The Grant Officer will make final selection determination based on what is most advantageous to the Government, considering factors such as: Panel findings and the availability of funds. The Grant Officer's determination for award under this SGA 02-04 is final.

Note: Selection of an organization as a cooperative agreement recipient does not constitute approval of the cooperative agreement application as submitted. Before the actual cooperative agreement is awarded, ILAB will enter into negotiations about such items as program components, funding levels, and administrative systems. If the negotiations do not result in an acceptable submission, the Grant Officer reserves the right to terminate the negotiation and decline to fund the application.

B. Rating Criteria and Selection

The technical panel will review applications against the various criteria on the basis of 100 points with an additional five points available for non-federal or leveraged resources.

The factors are presented in the order of emphasis that they will receive.

1. Approach, Understanding of the Issue, and Budget Plan (40 points)

a. Overview. This section of the application must explain:

(1) The applicant's proposed innovative methods for performing all the specific areas of work requirements presented in this solicitation.

(2) The expected outcomes over the period of performance for each of the tasks; and

(3) The approach for producing the expected outcomes.

The applicant should describe in detail the proposed approach to comply with each requirement in Section IV.A of this solicitation, including all tasks and methods to be utilized to implement the project. Also, the applicant should explain the rationale for using this approach. In addition, this section of the application should demonstrate the applicant's thorough knowledge and understanding of the issues involved in providing education to working children; best-practice solutions to address their needs; and the implementing environment in Bolivia and/or Perú.

b. Implementation Plan. The applicant should submit an implementation plan, preferably with a visual such as a Gantt chart, for the project. The implementation plan must list the outcomes, objectives and activities during the life of the project, and scheduling of time and staff starting with the execution of the cooperative agreement and ending with the final report. In describing the implementation plan, the applicant should address the following points:

(1) Describe the use of existing or potential infrastructure and use of qualified personnel, including qualified nationals, to implement the project. The applicant also should include a project organizational chart, demonstrating management structure, key personnel positions, and indicating proposed links with Government, civil society leaders, educators, and other significant local actors.

(2) Develop a list of activities and explain how each relates to the overall development objective of reducing child labor through education.

(3) Explain how appropriate awareness raising, training, and pedagogic materials will be developed.

(4) Demonstrate how the applicant will strengthen national institutions and policies on education and combating child labor.

(5) Demonstrate how the applicant would systematically report on project performance to measure the achievement of the project objective(s).

(6) Demonstrate how the applicant would build national and local capacity to ensure that project efforts to reduce child labor and the effects of child labor through the provision of education are sustained after completion of the project.

c. Budget Plan. Develop a country-specific budget of up to US $1.5 million for the Bolivia project and US $1.5 million for the Peru project. This section of the application must explain the costs for performing all of the requirements presented in this solicitation and for producing all required reports and other deliverables presented in this solicitation; costs must include labor, equipment, travel, and other related costs. Preference may be given to applicants with lower administrative costs.

d. Management and Staff Loading Plan. This section also must include a management and staff-loading plan. The management plan is to include the following:

(1) A project organization chart and accompanying narrative which differentiates between elements of the applicant's staff and sub-contractors or consultants who will be retained;

(2) A description of the functional relationship between elements of the project's organization;

(3) The identity of the individual responsible for project management and the lines of authority between this individual and other elements of the project; and

(4) A description of how the implementation plan will be integrated into and support the projects being financed by USDOL through ILAB/IPEC.

The staff-loading plan must identify all key tasks and the person-days required to complete each task. Labor estimates for each task must be broken down by individuals assigned to the task, including subcontractors and consultants. All key tasks must be charted to show time required to perform them by months or weeks.

This section will be evaluated in accordance with applicable Federal laws and regulations. The budget must comply with Federal cost principles (which can be found in the applicable OMB Circulars) and with ILAB budget requirements contained in the application instructions in Section III of this solicitation.

2. Experience and Qualifications of the Organization (35 points)

The evaluation criteria in this category are as follows:

a. The applicant has international experience in the Latin American region implementing basic and vocational education programs that address issues of access and quality for disadvantaged children including working children. The applicant should provide ILAB with a listing of all its offices in the region and country or how the applicant plans to establish the necessary field presence for the projects.

b. The applicant must show ability to support a field office through infrastructure, communication systems, technical assistance, and other systems that enhance capacity to perform in a difficult field environment. The applicant should also establish an office that gives it the capability to work directly with government ministries, educators, civil society leaders, and other local organizations, e.g., community-based or faith-based groups; the applicant can document that it has already established relations of this nature in the target country or can show that it has the capacity to readily establish such relations.

The application should include information about previous grants or contracts relevant to this solicitation including:

a. The organization for which the work was done;

b. A contact person in that organization with their current phone number;

c. The dollar value of the grant, contract, or cooperative agreement for the project;

d. The time frame and professional effort involved in the project;

e. A brief summary of the work performed; and

f. A brief summary of accomplishments.

This information on previous grants and contracts shall be provided in appendices and will not count in the 25-page maximum page requirement.

3. Experience and Qualifications of Key Personnel (25 points)

This section of the application must include sufficient information to judge the quality and competence of staff proposed to be assigned to the project to assure that they meet the required qualifications. Successful performance of the proposed work depends heavily on the qualifications of the individuals who will be working on this project. Accordingly, in its evaluation of the applicant's application, USDOL will place emphasis on the applicant's commitment of personnel qualified for the work involved in accomplishing the assigned tasks. Information provided on the experience and educational background of personnel must indicate the following:

a. The identity of key personnel assigned to the project. “Key personnel” are staff who are essential to the successful operation of the project and completion of the proposed work and, therefore, may not be replaced or have their hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or subcontracting. Note that management and professional technical staff members comprising the applicant's proposed team should be individuals who have prior experience with organizations working in similar efforts, and are fully qualified to perform work specified in the Statement of Work. Where sub-contractors or outside assistance are proposed, organizational control must be clearly delineated to ensure responsiveness to the needs of USDOL. Key personnel must sign letters of agreement to serve on the project, and indicate availability to commence work within three weeks of grant award.

The following information must be furnished:

a. The applicant must designate a regionally located Project Director for each country (Key Personnel) to oversee the project and be responsible for implementation of the requirements of the cooperative agreement in each country. The Project Director must have an FRS 4 written and spoken level of Spanish and English as translation/interpretation services are scarce in targeted communities. The Project Director must also have a minimum of three years of professional experience in a leadership role in implementation of complex education or training programs in developing countries in areas such as education policy; improving educational quality and access; teacher training and materials development; educational assessment of disadvantaged students; development of community participation in the improvement of basic education; and monitoring and evaluation of education or training (or similar) projects. Preferred candidates will also have knowledge of child labor eradication.

b. The applicant must also designate an Education Specialist (Key Personnel) who will provide leadership in developing the technical aspects of this project in collaboration with the Project Director. Given the scarce availability of translation/interpretation services in the targeted communities, this person must have at least an advanced working knowledge of Spanish and English. The Education Specialist must also have at least three years experience in basic education projects in developing countries in areas including student assessment, teacher training, educational materials development, educational management, and educational monitoring and information systems. This person must have experience in working successfully with ministries of education, networks of educators, employers' organizations and trade union representatives or comparable entities. Additional experience with child labor, psychosocial counseling, and education monitoring and evaluation is an asset.

c. The applicant must specify other personnel proposed to carry out the requirements of this solicitation.

d. The applicant must include a description of the roles and responsibilities of all personnel proposed for this project and a resume for each professional person to be assigned to the program. Resumes will be attached in an appendix. At a minimum, each resume must include: the individual's current employment status and previous work experience, including position title, duties performed, dates in position, and employing organizations and educational background. Duties must be clearly defined in terms of role performed, e.g., manager, team leader, consultant, etc. It should be whether the individual is currently employed by the applicant, and (if so) for how long.

e. The applicant must indicate whether proposed personnel are currently employed by the organization or are dependent upon planned recruitment or sub-contracting. Note that management and professional technical staff members comprising the applicant's proposed team should be individuals who have prior experience with organizations working in similar efforts, and are fully qualified to perform work specified in the Statement of Work. Where sub-contractors or outside assistance are proposed, organizational control must be clearly delineated to ensure responsiveness to the needs of USDOL.

4. Leverage of Funding (5 points)

The Department will give up to five (5) additional rating points to applications that include non-Federal resources that significantly expand the dollar amount, size and scope of the application. Of special interest is an applicant(s)'s ability to provide school health and food assistance, and income-generation and/or credit or vocational education programs in support of adults in the families of target children, or for older children who complete education programs and are ready for self-employment. These programs will not be financed by the project, but can supplement and enhance project objectives. The applicant may include any leveraging or co-funding anticipated. To be eligible for the additional points in the criterion, the applicant must list the source(s) of funds, the nature, and possible activities anticipated with these funds under this cooperative agreement and any partnerships, linkages or coordination of activities, cooperative funding, etc.

Signed at Washington, DC, this 17th day of May, 2002.
Lawrence J. Kuss,
Grant Officer.

Appendix A: SF 424—Application Form

Appendix B: SF 424A—Budget Information Form

Appendix C: Implementing Environment in Bolivia

Appendix D: Implementing Environment in Perú

Appendix E: Background Material Available on the Web

Note: Use Column A to record funds requested for the initial period of performance (i.e. 12 months, 18 months, etc.); Column B to record changes to Column A (i.e. requests for additional funds or line item changes; and Column C to record the totals (A plus B).

Instructions for Part II—Budget Information

Section A—Budget Summary by Categories

1. Personnel: Show salaries to be paid for project personnel which you are required to provide with W2 forms.

2. Fringe Benefits: Indicate the rate and amount of fringe benefits.

3. Travel: Indicate the amount requested for staff travel. Include funds to cover at least one trip to Washington, DC for project director or designee.

4. Equipment: Indicate the cost of non-expendable personal property that has a useful life of more than one year with a per unit cost of $5,000 or more. Also include a detailed description of equipment to be purchased including price information.

5. Supplies: Include the cost of consumable supplies and materials to be used during the project period.

6. Contractual: Show the amount to be used for (1) procurement contracts (except those which belong on other lines such as supplies and equipment); and (2) sub-contracts/grants.

7. Other: Indicate all direct costs not clearly covered by lines 1 through 6 above, including consultants.

8. Total, Direct Costs: Add lines 1 through 7.

9. Indirect Costs: Indicate the rate and amount of indirect costs. Please include a copy of your negotiated Indirect Cost Agreement.

10. Training /Stipend Cost: (If allowable)

11. Total Federal Funds Requested: Show total of lines 8 through 10.

Section B—Cost Sharing/Matching Summary

Indicate the actual rate and amount of cost sharing/matching when there is a cost sharing/matching requirement. Also include percentage of total project cost and indicate source of cost sharing/matching funds, i.e. other Federal source or other Non-Federal source.

Note: Please include a detailed cost analysis of each line item.

Appendix C: Implementing Environment in Bolivia

I. Legal Framework

Child Labor Laws

In Bolivia, children less than 14 years of age may not legally work except as apprentices. Children less than 18 years of age are prohibited from work that could retard their physical growth, that requires great strength, or that is dangerous (Ley General del Trabajo, del 8 de diciembre de 1942, Decreto Supremo del 4 de agosto de 1940).

Education Laws and Structure

As part of the education reform of 1994, compulsory education was defined as eight years and was divided into three cycles: three years of basic learning, three years of essential skills, and two years of applied learning. These cycles are for children of approximately six to 14 years of age. Pre-school education is not yet obligatory because the government is not in a position to offer it nationally. Among other things, the Law of Education Reform calls for the introduction of an intercultural focus at all levels of education and the application of a bilingual component. The reform has survived through three different administrations and is the first experience of continuity of any social policy in Bolivia. (For a more extensive review of the education reform, please see link to UNESCO: Education For All Country Reports in Appendix E).

The education system is decentralized and overseen by the following institutions:

• The Prefectura (Prefecture), as the representative of the central government, is responsible for hiring personnel at the district level.

• The Servicio Departamental de Educación (SEDUCA) is under the control of the Prefectura and is responsible for the administration of public education and the supervision of private education at the departmental level. The Director of SEDUCA is responsible for formulating the Departmental education plan, for supervising and evaluating district education directors, and for the completion of annual goals and objectives.

• The Direcciones Distritales de los Municipios (Municipal District Offices) are responsible for buildings and equipment.

• The alcaldes (mayors), supported by the consejos municipales (municipal councils), administer education at the local level.

• The Direcciones de Núcleos Escolares (Offices of School Networks) administer groups or networks of schools, organized according to geographic, cultural, and linguistic criteria, that include at least one school with all educational levels and are supported by one asesor pedagógico.

• The Direcciones de Unidades Escolares (Individual School Offices) administer individual schools.

For more information on the Bolivian education system, see Ministry of Education link in Appendix E.

II. Extent and Nature of Child Labor

Statistics

• In the most recent national census (1992), it was estimated that 32 percent of Bolivian children/adolescents between seven and 19 years of age were in the workforce. Twenty-nine percent of this group is located in cities and 71 percent in rural areas (Plan Nacional de Acción por la Niñez y Adolescencia en situación de Riesgo en Bolivia 2001-2005).

• More recently, the World Bank (World Development Indicators 2000 CD Rom, the World Bank, Washington DC, 2000) reported that 12.6 percent of Bolivian children ages 10-14 are working (although it is likely that the above figures underestimate the number of child laborers since most child labor takes place in the informal sector).

• For child/adolescent workers who work during the day, night schools have become one of the only educational alternatives. In 1997 there were 523 night schools in Bolivia, the majority of them (62.72 percent) concentrated in the country's three largest cities of La Paz, Cochabamba, and Santa Cruz.

Type of Work in Which Children Are Engaged

The worst forms of child labor in Bolivia have been identified as mining, commercial sexual exploitation, sugar cane harvest, Brazil nut harvest, and domestic work (in houses other than one's own) by children less than 14 years old.

III. Efforts

Government

Rural education has been designated a priority area in the education reform, and the Ministerio de Educación, Cultura y Deportes's (Ministry of Education, Culture and Sports') Plan Huascarán has promised to put computers and parabolic disks for Internet connection in 5,000 rural communities to help improve rural education in the most isolated areas.

The Viceministro de Educación Alternativa (Viceministry for Alternative Education), established by the reform (Law 1565), develops programs to benefit children and adolescents whose needs are not met by the formal education system. Educación Juvenil Alternativa (EJA) is in the process of developing a curriculum for educación nocturna (night school) that will respond to the needs and interests of the night school population, estimated to be 80 percent working and street children (Gottret, et al., La Escuela: Educació n para niños y adolescentes trabajadores en Bolivia).

The Ministry of Labor (MOL) has expressed interest in working with other ministries to implement existing laws in the Labor Code in 2002 regarding adolescents between the ages of 14 and 17, including working with Bolivia's main technical training program (INFOCAL) and also including working children/adolescents in its departmental scope.

The Comisión Interinstitucional para la Erradicación del Trabajo Infantil (Interinstitutional Comisión for the Eradication of Child Labor), headed by the MOL, is composed of representatives from government institutions, civil society, and international organizations and is the author of a 10-year (2000-2010) plan for the progressive eradication of child labor. There is also a mining sub-committee made up of 15 institutions, eight of which participate regularly.

Preliminary national studies have been completed in three of the sectors considered to be worst forms: Mining, sugar cane, and Brazil nuts. Studies of two other worst forms, child sexual exploitation and domestic workers, are underway.

International Donors

The education reform is financed by World Bank and Inter-American Development Bank credit, and by donations and technical assistance from European donors. ILO/IPEC is implementing the USDOL Eradication of Child Labor in Artisan Gold Mining Project described in the context of the solicitation. UNICEF has conducted various child labor studies and has implemented awareness raising workshops in all departments. UNICEF also works in both basic and alternative education and has trained teachers in basic bilingual education.

International NGOs

CARE has worked in recent years on girls' education, developing a curriculum to make education more targeted to girls. They have also sponsored a Saturday program covering topics such as human rights, children's rights, and alternative math courses for working girls. They are working in eight evening schools in La Paz and El Alto.

Fe y Algería (Faith and Happiness) is working nation-wide in Bolivia, including in 14 schools in the Department of Potosí. Fe y Alegría teachers are employed by the Ministry of Education, but Fe y Alegría provides the administration of the schools and teacher training.

Save the Children has a basic education program called Primary Education Now! in Oruro. The program works to improve the quality of education in peri-urban schools by training teachers and renovating and constructing classrooms, bathrooms or kitchens and providing computers, audio-visual equipment, children's literature and didactic material. The program also provides health and nutrition services to children and strengthens parent associations and school boards.

Non-Governmental Organizations

Centro Boliviano de Investigación y Acción Educativas (CEBIAE—Bolivian Center for Research and Education Action) has been addressing education issues for over 26 years, and for the past three years has been working on education quality at the school level, and incorporating greater social participation in public education.

CEBIAE is currently working with local education officials to train teachers in reform methods in Potosi within the framework of the institutional plan “Education for Local Development in Municipal Districts, 2001-2004.” See Appendix E for more information on CEBIAE.

Confederacion de Trabajadores de Educación Urbana (Confederation of Urban Education Workers). According to a union representative, Bolivian teachers make about 600 Bolivianos (a little less than $100) per month. Teachers prefer to work for private schools because the remuneration is better than in the public system. According to the Confederation, the Ministry of Education is not willing to negotiate with teachers, so there will likely be strikes within the lifetime of the project. Night school teachers are members of the Association of Adult Education, a network of the Confederation.

Cruz Roja (The Red Cross) in Potosí is providing a vocational training program for 60 adolescents. The program is structured in three modules of three months each, one theoretical, one practical, and one a combination of theory and practice. Thirty of the 60 participants have been placed in jobs.

El Centro de Investigación y Apoyo Campesino (CIAC—The Center for Research and Rural Aid), located in the southern Andean region (Potosí and Tarija) of Bolivia, was founded to design and execute programs in support of rural communities. In the field of education, CIAC provides teacher training and training for juntas escolares in rural schools. CIAC and three other NGOs (Caritas, ACLO, and Causnanchispaj) are running rural boarding schools for children whose community schools include only the first three grades.

Programa Alternativo de Prevención Integral de la Marginalidad en la Población Urbana Infanto-Juvenil de y en la Calle (ENDA—Alternative Social Program to Prevent Marginality in Urban Youth and Street Children). ENDA's goals are: Reducing risk to working and street children, improving their socialization, and supporting their re-integration into the family and community. To accomplish these goals the organization provides safe houses, training/job placement, health services, and performs research.

Fundación de la Primera Dama. The Foundation of the First Lady of the Republic of Bolivia's mission is to develop support programs for high-risk social groups. The First Lady's Office has developed programs and projects for street children, rural and marginal urban students, people with disabilities, and the elderly. See Appendix E for more information.

Qharuru has 13 years of experience providing education, health, and other basic services, as well as vocational training, to working children in a center owned by the organization in La Paz. In addition to the center, Qharuru implements other projects that have included research, a program with shoeshine children, development of night school curricula, and a theater program to prevent drug use.

Appendix D: Implementing Environment in Perú

I. Legal Framework

Child Labor Laws

In Perú, the legal minimum age of employment is 14; however, children between 12 and 14 may obtain permission from the Ministry of Labor to work four hours a day in light work. Adolescents aged 15-17 may work for six hours a day provided they are attending school regularly. In more hazardous sectors, such as mining, the legal minimum work age is 15. Work that can harm a child's physical, mental, or emotional health and development, including underground work, heavy lifting/carrying, and work that interferes with school attendance is prohibited under the age of 18.

Education Laws and Structure

In 1993, the Peruvian Congress extended the years of obligatory schooling to 13: three pre-school years (starting at age three) and a total of 10 years of primary and secondary school, to be phased in progressively. In order to phase in the additional years, it was planned to add one school year, each calendar year, over several years.

As part of the national education reform, the Ministry of Education has developed a model that moves away from teaching/instruction and puts emphasis on learning/training. It involves:

• A curriculum that takes local realities (including multiculturalism) into account.

• Flexibility for one third of the curriculum to be developed locally.

• An emphasis on solving concrete problems of every day life and improving the quality of life.

In the short run, the new approach will focus on factors affecting educational quality such as teacher training; production and distribution of free educational materials; expansion, improvement and maintenance of infrastructure; school director training, and social support programs such as distribution of food, furniture, and clothing.

In the medium run, the goal will be to expand the coverage of the education system (especially in the pre-school and secondary areas) in disperse rural areas, and to improve teaching methodology.

Goals in alternative education include modification of the primary and secondary curricula to be appropriate for the adolescent/adult population, a flexible, contextual, competency-based, modular curriculum, radio learning, day-care programs, supplemental nutrition programs, and the establishment of an accreditation system for technical education.

II. Extent and Nature of Child Labor

Statistics

• According to the Yearbook of Labor Statistics, in 1999, 5.5 percent of children in Perú between the ages of 10 and 14 and 44 percent of children between the ages of 15-19 were working (ILO, Geneva, 2000, Table 1A).

• On tests conducted by the Ministry of Education in 1998, of 25 departments, the Department of Puno (location of the proposed projects) was among the six with the lowest scores on three of the four tests.

• In most rural schools in Perú, class contact hours are inadequate (an estimated 200 hours/year compared with an average 1,050 hours/year for Latin America), many students are over-age for their grade, and there are high levels of absenteeism, repetition and dropout.

Type of Work in Which Children Are Engaged

The worst forms of child labor in Perú have not been formally identified, but children are most commonly found working in the agricultural sector, in garbage scavenging, in the loading and unloading of produce in markets, in fireworks factories, in urban centers working as shoe shiners, and in stone quarries. Working children and adolescents are also found making bricks, participating in informal mining-related activities, and being commercially exploited and exploited for sexual means.

III. Efforts

Government

The Ministry of Labor implements the Projoven (Proyouth) Program which helps low income youth enter the labor market through training and apprenticeship programs. The program, begun in 1996, has trained almost 25,000 youths in such technical areas as sewing/tailoring, administration, tourism, mechanics, carpentry, construction, bread making, shoe repair, agro-industry, and fishing.

The Ministry of Education has developed the Intercultural Bilingual Education Program to provide universal access to quality education, and nearly 5,000 teachers are being trained to address close to 100,000 students in eight languages. The Ministry of Education's Plan Huascarán will provide Internet access to all schools including rural schools.

PROMUDEH is promoting a new initiative, Plan de Acción para la Infancia 2002-2006. The plan will include efforts to protect child workers with a goal of the eventual elimination of child labor.

The National Plan to Eliminate Child Labor, developed by the Comité Nacional para la Erradicación del Trabajo Infantil y Protección de Adolescentes que Trabajan (National Committee for the Eradication of Child Labor and the Protection of Working Adolescents), has not yet been approved. In 2001, the Committee set up a number of sector sub-committees, including one on mining and one on education. The Committee has since become inactive, but the sub-committees continue to function and the sub-committee on mining has successfully brought the issue of child labor in the mining sector to national attention. Its members have formed a separate entity, the Red de Minería Artesanal (the Small-scale Mining Network) which has developed its own one-year action plan.

Ministerio de Promoción de la Mujer y Desarrollo Humano (PROMUDEH—Ministry for the Promotion of Women and Human Development). Through the National Institute of Family Well-being, PROMUDEH addresses populations at risk, such as children, adolescents, women and older adults living in poverty. PROMUDEH's Educadores de Calle Program (Street Educators) is made up of a team of young professionals who attend to at-risk populations, among them working children, to reintegrate them into family, school, and community.

International Donors

Through CARE, USAID began to work in education with the objective of improving opportunities for rural girls. Important accomplishments were raising social awareness, building a national network for girls' education called FLORECER, and passing a girls' education law. In 2002, USAID will implement pilot programs with new approaches to rural education, and in 2003, the World Bank will adapt lessons learned from the pilot projects to the remaining rural areas.

The International Labor Organization's International Program on the Elimination of Child Labor is implementing the USDOL-funded Program to Prevent and Progressively Eliminate Child Labor in Small-scale Traditional Gold Mining in Bolivia, Ecuador and Perú (referred to in this solicitation). In Perú, the project is working in Mollehuaca, Puno and Santa Filomena, focusing on awareness raising, institutional strengthening, education improvement, and withdrawal of children from mining.

UNICEF's program for 2001-2005 focuses on extremely poor and excluded children with a goal of equitable and inclusive public policies. Two programs have been developed:

(1) The Initiatives for Social Inclusion Program operates at the local level and emphasizes equitable access to health care, especially in early childhood; quality education; exercise of citizenship; and adolescent participation.

(2) The Promotion and Monitoring of Rights Program, at the national level, strengthens access to information and knowledge through three national projects.

UNICEF also implements the USAID-funded Abriendo Puertas (Opening Doors to Rural Girls' Education), a project initiated in 1999 to address the issues of rights, gender equality, bilingual/intercultural education and citizenship.

Private Sector

During the 1990s a “Law to Promote Investment in Education” (Legislative Decree 882) served as the legal framework to promote private sector support for education. The Ministry of Education has signed contracts with a number of large private corporations/companies and there is an increasing amount of private and municipal participation in education.

Generally, Peruvians invest a high level of personal income in education (Perúvian Education at the Crossroads: Challenges and Opportunities for the 21st Century, World Bank, 2001). One community that is part of the USDOL/ILAB South America Small-scale Mining Project has conducted a fundraiser for school improvement, and members of another community have provided the labor to construct new classrooms. These investments reflect a national commitment to education as the path to development. Another positive sign for sustainability of interventions in Perú are nascent private sector (BellSouth) contributions for education programs and scholarships.

International NGOs in Perú

CARE-Perú, through the USAID project Nuevos Horizontes para la Educación de las Niñas (New Horizons for Girls' Education), organized the National Network for Girls Education and achieved congressional approval for the Law to Promote Education for Rural Girls. The law mandated universal school enrollment for rural girls; gender equity in teaching, infrastructure, and school management; and training for girls and families on psychosocial and reproductive health.

Save the Children (SAVE) has also implemented various studies involving education and child labor. In addition, School Municipality is a SAVE project in which children and adolescents participate democratically in school, and Parent School is a community school that helps raise parent awareness on child and human rights.

SAVE also works to integrate the goals of the Municipal Child and Adolescent Defense Offices (DEMUNA) with communities. These offices protect and promote the rights of children and adolescents, solve conflicts through conciliation, and promote strengthening of the family.

National NGOs in Perú

AIDECA offers technical improvements to eliminate the need for child labor in the USDOL/ILAB South America Small-scale Mining Project in Mollehuaca.

Centro Proceso Social (Social Process Center) is an organization in Lima working to help child trash pickers in the northern cone of Lima. The project has developed an approach for reinserting trash-picking children in school by using social educators to help with academic reinforcement and to conduct consciousness raising for parents.

Centro de Estudios Sociales y Publicaciones (CESIP), Programa Derechos de Niños y Adolescentes (Social Studies and Publications Center, Program on Children's and Adolescents' Rights). CESIP's mission is to reduce social inequality and inequity stemming from factors of gender, age, social class, and ethnic origin. CESIP has implemented part of the USDOL/ILAB South America Small-scale Mining Project in Mollehuaca with interventions covering such issues as school furniture, teacher training, and development of didactic material. Other CESIP programs address the prevention of child/adolescent labor through: School participation; child labor awareness raising with kids, teachers, parents groups, and community; improvement of educational quality through extracurricular activities; Saturday schools; and alternative income generation programs.

In a program for Bell South, CESIP developed a mochila escolar (school bag) initiative called PRO NIÑO (Pro-Child) which supplies materials and resources to a selected group of children. The program's aim is to reintegrate children who have left school or to support those at risk of failing. The program includes a revolving fund for mothers of target children in exchange for reducing work hours or removing children from work and reenrolling them in school.

A new program Beca Semilla (Seed scholarship), also sponsored by Bell South, reinforces the participation of adolescents, promoting technical skills to enable participants to make occupational changes and leave the worst forms of work.

Centro de Investigación y Desarrollo de la Educación (Center for Education Research and Development) specializes in development research/publication and teaching innovations.

Confederación Nacional de Instituciones Empresariales Privadas (CONFIEP—National Confederation of Private Business Institutions). A special committee within this organization convened to look at social conscience issues and eventually became “Perú 2021.” It is now an independent organization that serves as a model for involving the private sector in eradication of child labor.

Cooperacción (Cooperation) is the NGO responsible for the USDOL/ILAB South America Small-scale Mining Project in Santa Filomena, Peru, where its representatives have focused on education and health as the most important elements in helping children attend and remain in school.

Cooperacción has been successful in improving the quality of teaching. Before the intervention of the USDOL/ILAB South America Small-scale Mining Project, no high school existed and only 45 percent of children in the community attended school. Now, with the addition of a high school, 85 percent of children attend. Also in Santa Filomena, the high school and health posts constructed by the community have been adopted and taken over by the state. Cooperacción used diagnostics and study results to leverage requests for support to regional government offices.

In Santa Filomena, Cooperaccioón has incorporated local topics into the curriculum and developed a one-day per month “school for parents” that sensitizes parents to child labor issues. Cooperaccioón has also taken advantage of “Seguro Escolar” (School Insurance), a program that provides health services to children up to age 17 if teachers verify they are attending school classes.

Foro Educativo (Education Forum) is an education think tank that generates applications through participative processes, then seeks to create consensus on the ideas to influence educational policy.

EDUCA, Instituto de Fomento de una Educación de Calidad (Institution for the Promotion of Quality Education). EDUCA's mission is the improvement of educational quality through creative approaches. EDUCA is an organization of teachers and other professionals committed to training other teachers and communities in how to transform institutions and practice to create Peruvian entrepreneurs.

Grupo de Iniciativa Nacional por los Derechos del Niño (GIN—National Initiative Group for Children's Rights) is a network of 30 institutions, formed in the 1980s, to work in favor of children's rights. GIN performs follow-up on the implementation of the Convenio de los Derechos del Niño (Convention on the Rights of the Child) and conducts awareness raising campaigns against child labor.

Red por un Futuro sin Trabajo Infantil. (Network for a Future without Child Labor). This network includes fifteen institutions working on the eradication of child labor.

Red Titicaca, Instituto de Educación y Comunicación Puno (Titicaca Network, Education and Communication Institute, Puno) is implementing the DOL/ILAB South America Small-scale Mining Project in Puno. Its approach involves the entire community, including parents, leaders, authorities, and teachers. It emphasizes working with teachers who are discouraged and unmotivated. Workshops have improved the teachers' commitment and additional training is planned for the coming year. Awareness raising with parents increased their motivation to work for education and as a result they provided the labor for the construction of six classrooms.

Sindicato Unitario de Trabajadores en la Educación del Perú (SUTEP—Peruvian Teachers Union). Only 10,000 of Perú's public school teachers are not members of SUTEP, a union that counts 295,000 public school teachers in its membership. SUTEP has worked through the ILO using promoters to raise awareness on the eradication of child labor.

Tarea (Task) specializes in improving public education through policy, local development, and awareness raising.

Warma Tarinakuy developed a project in 1996 in a red-light district of Lima where children worked in the streets, semi-abandoned by their working parents. The project attempted to fill gaps in the continuity of schooling through non-formal education. Warma Tarinakuy also works with the children of gang members, on issues including cultural identity, self-confidence, and capacity building.

Appendix E: Background Material Available on the Web

Applicants desiring additional information and documents that can assist in the preparation of responses to this solicitation can find the following documents on the USDOL web site at http://www.dol.gov/dol/ilab/public/programs/iclp/ or at the following web addresses:

1. Project Document for “Program to Prevent and Progressively Eliminate Child Labor in Small-scale Traditional Gold Mining in South America.”

2. Bolivia Country Report.

3. Perú Country Report.

4. Programa IPEC-Minería Artesanal en América del Sur, “El Trabajo Infantil en la Minería Artesanal del Oro.”

5. Estudios sobre el Trabajo Infantil en la Minerúa: Caso Potosí.

6. Piazza, Maria del Carmen, “Children Working in Small-scale Traditional Gold-Mining in Perú”, 2001.

7. Zamora and Barrera, “Rendimiento escolar y estado nutricional,” Ministerio de Educacioón, Cultura y Deportes, (www.vieps.gov.bo).

8. Bolivia. CEBIAE. Centro Boliviano (http://www.cebiae.edu.bo).

9. UNESCO: Education for All Country Reports, (http://www2.unesco.org/wef/countryreports/country—all.html).

10. Bolivian Ministry of Education, (www.veips.gov.bo).

11. Fundación de la Primera Dama, (http://www.pridama.gov.bo/despacho/despacho.htm).

[FR Doc. 02-12960 Filed 5-22-02; 8:45 am]

BILLING CODE 4510-28-P